MEDICARE PAYMENT ADVISORY COMMISSION

Commission Meeting

AGENCY: Medicare Payment Advisory Commission.

ACTION: Notice of meeting.

SUMMARY: The Commission will hold its next public meeting on Thursday, December 14, 2000, and Friday, December 15, 2000, at the Ronald Reagan Buildings, International Trade Center, 1300 Pennsylvania Avenue, NW., Washington, DC. The meeting is tentatively scheduled to begin at 10 a.m. on December 14, and at 9 a.m. on December 15.

Topics for discussion include: payment update for hospital inpatient services; analysis of Medicare + Choice; issues in post-acute care; the March 2001 Report; updating payments for physician services and ambulatory care facilities; end-stage renal disease payment policies in traditional Medicare; hospital margins and subsidies analysis for rural hospitals; MedPAC site visits to rural communities, and the disproportionate share payment adjustment for inpatient hospitals.

Agendas will be mailed on December 6, 2000. The final agenda will be available on the Commission's website (www.MedPAC.gov).

ADDRESSES: MedPAC's address is: 1730 K Street, NW., Suite 800, Washington, DC 20006. The telephone number is (202) 653-7220.

FOR FURTHER INFORMATION CONTACT: Diane Ellison, Office Manager, (202) 653-7220.

Murray N. Ross,
Executive Director.

[FR Doc. 00-30959 Filed 12-5-00; 8:45 am]

BILLING CODE 6820-BW-M